DEPARTMENT OF LABOR

Bureau of Labor Statistics

Business Research Advisory Council; Notice of Renewal

The Secretary of Labor has determined that re-establishment of the charter of the Business Research Advisory Council (BRAC) is necessary and in the public interest in connection with the performance of duties imposed upon the Commissioner of Labor Statistics by 29 U.S.C. 1, 2, 3, 4, 5, 6, 7, 8, and 9. This determination follows consultation with the Committee Management Secretariat, General Services Administration.

Name of Committee: Business Research Advisory Council.

Purpose and Objective: The Council presents advice and makes recommendations to the Department of Labor's Bureau of Labor Statistics from the perspective of the business community. The Council reviews Bureau programs, presents priorities for business users, suggests the addition of new programs, suggests changes in the emphasis of existing programs, and suggests dropping old programs. It also suggests alternative approaches for data collection and reporting.

Balanced Membership Plan: The BRAC membership is comprised of representatives from a broad perspective of the U.S. economy, with large and small companies represented as well as goods- and non-goods-producing industries. In order to maintain the independence and credibility of the advice, members of BRAC are designated by the Commissioner of Labor Statistics, under authorization from the Secretary of Labor, from nominations by the BRAC Membership Committee.

Duration: Continuing.

Agency Contact: Tracy Jack, 202-691-5869.

Signed in Washington, DC this 12th day of August, 2005.
Elaine L. Chao,
Secretary of Labor.

[FR Doc. 05-16352 Filed 8-17-05; 8:45 am]

BILLING CODE 4510-24-P